DEPARTMENT OF JUSTICE

Notice of Lodging of Proposed Consent Decree Under the Clean Air Act

On January 31, 2013, the Department of Justice lodged a proposed consent decree with the United States District Court for the Northern District of Illinois in the lawsuit entitled United States, et al. v. H. Kramer & Co., Civil Action No. 1:13-cv-00771.

In the Complaint, the United States and the State of Illinois alleged that H. Kramer & Co. (“H. Kramer”) caused or contributed to emissions of air pollution that resulted in exceedances of the national ambient air quality standard for lead, failed to use good air pollution control practices for minimizing lead emissions, and caused a common law nuisance at its facility in the Pilsen neighborhood of Chicago, Illinois. Under the consent decree, H. Kramer has agreed to install two new state-of-the-art baghouses, limit production of certain leaded alloys until the installation of the new baghouses is complete, pay a civil penalty of $35,000 (half to the United States and half to Illinois), and implement a $40,000 Supplemental Environmental Project to retrofit diesel school buses in the vicinity of the facility.

The publication of this notice opens a period of public comment on the consent decree. Comments should be addressed to the Assistant Attorney General, Environment and Natural Resources Division, and should refer to United States, et al. v. H. Kramer & Co., D.J. Ref. No. 90-5-2-1-2177/2. All comments must be submitted no later than thirty (30) days after the publication date of this notice. Comments may be submitted either by email or by mail:

To submit comments: | Send them to:
By e-mail | pubcomment-ees.enrd@usdoj.gov
By mail | Assistant Attorney General
| U.S. DOJ—ENRD
| P.O. Box 7611
| Washington, D.C. 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $21.50 (25 cents per page reproduction cost) payable to the United States Treasury.

Maureen Katz,
Assistant Section Chief, Environmental Enforcement Section, Environment and Natural Resources Division.

[FR Doc. 2013-02527 Filed 2-5-13; 8:45 am]

BILLING CODE 4410-15-P